NUCLEAR REGULATORY COMMISSION

Advisory Committee on the Medical Uses of Isotopes: Meeting Notice

AGENCY: U.S. Nuclear Regulatory Commission.

ACTION: Notice of Meeting—Rescheduled.

SUMMARY: The U.S. Nuclear Regulatory Commission (NRC) gives notice that the teleconference meeting of the Advisory Committee on the Medical Uses Isotopes (ACMUI) previously scheduled for December 18, 2015, from 2:00 p.m. to 4:00 p.m. Eastern Time, to discuss the draft report of the ACMUI Rulemaking Subcommittee that was formed to provide comments to the NRC staff on the draft final rule for Title 10 of the Code of Federal Regulations (10 CFR) Part 35, “Medical Use of Byproduct Material,” as published in the Federal Register (80 FR 57239-57240) has been rescheduled. The meeting is now scheduled for January 06, 2016, from 2:00 p.m. to 4:00 p.m. Eastern Time. Meeting information, including a copy of the agenda and the subcommittee's draft report, will be available at http://www.nrc.gov/reading-rm/doc-collections/acmui/meetings/2015.html no later than December 24, 2015. The agenda and handouts may also be obtained by contacting Ms. Sophie Holiday using the information below.

DATES: The teleconference meeting will be held on Wednesday, January 06, 2016, 2:00 p.m. to 4:00 p.m. Eastern Time.

Public Participation: Any member of the public who wishes to participate in the teleconference should contact Ms. Holiday using the contact information below.

Contact Information: Sophie Holiday, email: Sophie.Holiday@nrc.gov, telephone: (404) 997-4691.

Conduct of the Meeting

Dr. Philip Alderson, ACMUI Chairman, will preside over the meeting. Dr. Alderson will conduct the meeting in a manner that will facilitate the orderly conduct of business. The following procedures apply to public participation in the meeting:

1. Persons who wish to provide a written statement should submit an electronic copy to Ms. Holiday at the contact information listed above. All submittals must be received by December 31, 2015, 3 business days prior to the meeting, and must pertain to the subcommittee's draft report. Staff is not soliciting public comment on the draft final rule itself.

2. Questions and comments from members of the public will be permitted during the meetings, at the discretion of the Vice Chairman.

3. The draft transcript and meeting summary will be available on ACMUI's Web site http://www.nrc.gov/reading-rm/doc-collections/acmui/meetings/2015.html on or about February 19, 2016.

This meeting will be held in accordance with the Atomic Energy Act of 1954, as amended (primarily Section 161a); the Federal Advisory Committee Act (5 U.S.C. App); and the Commission's regulations of 10 CFR part 7.

Dated at Rockville, Maryland, this 7th day of October, 2015.
For the Nuclear Regulatory Commission.
Andrew L. Bates,
Advisory Committee Management Officer.

[FR Doc. 2015-26180 Filed 10-13-15; 8:45 am]

BILLING CODE 7590-01-P